DEPARTMENT OF DEFENSE

Department of the Air Force

Notice of Intent To Grant an Exclusive Patent License

Pursuant to the provisions of Part 404 of Title 37, Code of Federal Regulations, which implements Public Law 96-517, as amended, the Department of the Air Force announces its intention to grant Allcomp Inc., a company doing business in City of Industry, CA, an exclusive license in the right, title and interest the Air Force has in U.S. Patent Number 5,752,773 entitled “High Temperature Rolling Element Bearing,” and in related invention disclosures concerning the same technical art.

A license for this patent and related invention disclosures will be granted unless a written objection is received within 15 days from the date of publication of this Notice. Information concerning this Notice may be obtained from Mr. William H. Anderson, Associate General Counsel (Acquisition), SAF/GCQ, 1500 Wilson Blvd., Suite 304, Arlington, VA 22209-2310. Mr. Anderson can be reached at 703-588-5090 or by fax at 703-588-8037.

Janet A. Long,
Air Force Federal Register Liaison Officer.

[FR Doc. 01-6384 Filed 3-14-01; 8:45 am]

BILLING CODE 5001-05-U